SECURITIES AND EXCHANGE COMMISSION

Sunshine Act Meeting.

Notice is hereby given, pursuant to the provisions of the Government in the Sunshine Act, Public Law 94-409, that the Securities and Exchange Commission Investor Advisory Committee will hold an Open Meeting on Monday, October 5, 2009, in the Multipurpose Room, L-006. The meeting will begin at 9 a.m. and will be open to the public, with seating on a first-come, first-served basis. Doors will open at 8:30 a.m. Visitors will be subject to security checks.

On September 15, 2009, the Commission issued notice of the Committee meeting (Release No. 33-9064), indicating that the meeting is open to the public and inviting the public to submit written comments to the Committee. This Sunshine Act notice is being issued because a majority of the Commission may attend the meeting. The agenda for the meeting includes: (i) A presentation by SEC staff of potential Commission initiatives; (ii) description of the composition and purpose of the Committee's subcommittees; (iii) consideration of a Committee recusal policy; (iv) reports from the Committee's subcommittees; and (v) discussion of next steps for the Committee, including regarding SEC resources.

For further information, please contact the Office of the Secretary at (202) 551-5400.

Dated: September 21, 2009.
Elizabeth M. Murphy,
Secretary.

[FR Doc. E9-23016 Filed 9-21-09; 4:15 pm]

BILLING CODE P